DEPARTMENT OF COMMERCE

International Trade Administration

[A-583-865]

Carbon and Alloy Steel Threaded Rod From Taiwan: Final Affirmative Determination of Sales at Less Than Fair Value

AGENCY: Enforcement and Compliance, International Trade Administration, Department of Commerce.

SUMMARY: The Department of Commerce (Commerce) determines that carbon and alloy steel threaded rod (steel threaded rod) from Taiwan is being, or is likely to be, sold in the United States at less than fair value (LTFV). The period of investigation (POI) is January 1, 2018 through December 31, 2018. The final estimated weighted-average dumping margins of sales at LTFV are shown in the “Final Determination” section of this notice.

DATES: Applicable December 9, 2019.

FOR FURTHER INFORMATION CONTACT: Nicholas Czajkowski or William Langley, AD/CVD Operations, Office I, Enforcement and Compliance, International Trade Administration, U.S. Department of Commerce, 1401 Constitution Avenue NW, Washington, DC 20230; telephone: (202) 482-1395 or (202) 482-3861, respectively.

SUPPLEMENTARY INFORMATION:

Background

On September 25, 2019, Commerce published the Preliminary Determination of this LTFV investigation in which Commerce found that steel threaded rod from Taiwan was sold at LTFV.¹ We invited interested parties to comment on the Preliminary Determination. We received no comments from interested parties.

¹ See Carbon and Alloy Steel Threaded Rod from Taiwan: Preliminary Affirmative Determination of Sales at Less Than Fair Value, 84 FR 50382 (September 25, 2019) (Preliminary Determination).

Scope of the Investigation

The products covered by this investigation are steel threaded rod from Taiwan. For a complete description of the scope of this investigation, see the appendix to this notice.

Scope Comments

On July 22, 2019, we issued a Preliminary Scope Memorandum.² The scope case briefs were due on August 28, 2019.³ We received no scope case briefs from interested parties. Therefore, Commerce has made no changes to the scope of this investigation since the Preliminary Determination.

² See Memorandum “Carbon and Alloy Steel Threaded Rod from India, Taiwan, Thailand, and the People's Republic of China: Scope Comments Decision Memorandum for the Preliminary Determinations,” dated July 22, 2019 (Preliminary Scope Decision Memorandum).

³ The scope case briefs were due 30 days after the publication of Carbon and Alloy Steel Threaded Rod from the People's Republic of China: Preliminary Affirmative Countervailing Duty Determination and Alignment of Final Determination with Final Antidumping Duty Determination, 84 FR 36578 (July 29, 2019). See Preliminary Scope Decision Memorandum at 3.

Verification

Because each of the mandatory respondents in this investigation (i.e., Quintain Steel Co. Ltd. (Quintain Steel), Top Forever Screws Co. Ltd. (Top Forever), Fastenal Asia Pacific Ltd. TW Repres (Fastenal), QST International Corporation (QST), and Ta Chen Steel Pipe Ltd. (Ta Chen)) did not provide the information requested by Commerce, and Commerce determined that each of the examined respondents have been uncooperative, we did not conduct verification.⁴

⁴ See Preliminary Determination, 84 FR at 50382.

Analysis of Comments Received

As stated above, we did not receive comments in response to the Preliminary Determination. For the final determination, Commerce made no changes to the Preliminary Determination.

Use of Adverse Facts Available

We continue to find, as stated in the Preliminary Determination, that the mandatory respondents Quintain, Top Forever, Fastenal, QST, and Ta Chen withheld requested information, failed to provide information by the specified deadlines, and significantly impeded the proceeding, pursuant to section 776(a) of the Tariff Act of 1930, as amended (the Act).⁵ Further, we continue to find that Quintain Steel, Top Forever, Fastenal, QST, and Ta Chen failed to cooperate to the best of their abilities to comply with our requests for information, and accordingly, we continue to apply an adverse inference when selecting from among the facts otherwise available to determine the relevant dumping margins, in accordance with section 776(b) of the Act.⁶ We further continue to select the only dumping margin alleged in the Petition ⁷ as the rate applicable to Quintain Steel, Top Forever, Fastenal, QST, and Ta Chen.⁸

⁵ See Memorandum, “Decision Memorandum for the Preliminary Determination in the Less-Than-Fair-Value Investigation of Carbon and Alloy Steel Threaded Rod from Taiwan,” dated September 18, 2019 (Preliminary Decision Memorandum)

⁶ Id.

⁷ See Petitioner's Letter, “Petitions for the Imposition of Antidumping and Countervailing Duties: Carbon and Alloy Steel Threaded Rod from the People's Republic of China, India, Taiwan, and Thailand,” dated February 21, 2019 (Petition).

⁸ See Preliminary Decision Memorandum.

All-Others Rate

As discussed in the Preliminary Determination, we continue to assign the single dumping margin alleged in the Petition ⁹ as the all-others rate applicable to all exporters and/or producers not individually examined.¹⁰

⁹ See Petition.

¹⁰ For a full description of the methodology underlying Commerce's analysis, see Preliminary Decision Memorandum.

Final Determination

Commerce determines that the following estimated weighted-average dumping margins exist:

Exporter or producer | Estimated weighted- average dumping margin (percent)
Quintain Steel Co. Ltd | 32.26
Top Forever Screws Co. Ltd | 32.26
Fastenal Asia Pacific Ltd. TW Repres | 32.26
QST International Corporation | 32.26
Ta Chen Steel Pipe Ltd | 32.26
All Others | 32.26

Continuation of Suspension of Liquidation

In accordance with section 735(c)(1)(B) of the Act, we will instruct U.S. Customs and Border Protection (CBP) to continue to suspend liquidation of all unliquidated entries of subject merchandise which were entered, or withdrawn from warehouse, for consumption on or after September 25, 2019, which is the date of publication of the Preliminary Determination in the Federal Register.

Pursuant to section 735(c)(1) of the Act and 19 CFR 351.210(d), Commerce will instruct CBP to require cash deposits equal to the estimated weighted-average dumping margins indicated in the table above as follows: (1) The cash deposit rate for the respondents listed above will be equal to the company-specific estimated weighted-average dumping margins determined in this final determination; (2) if the exporter is not a respondent identified above, but the producer is, then the cash deposit rate will be equal to the company-specific estimated weighted-average dumping margin established for that producer of the subject merchandise; and (3) the cash deposit rate for all other producers or exporters will be 32.26 percent, the all-others weighted-average dumping margin. These suspension of liquidation and cash deposit instructions will remain in effect until further notice.

Disclosure

Normally, Commerce discloses to interested parties the calculations performed in connection with a final determination within five days of any public announcement or, if there is no public announcement, within five days of the date of publication of the notice of final determination in the Federal Register, in accordance with 19 CFR 351.224(b). However, because Commerce applied adverse facts available (AFA) to the individually examined companies in this investigation, in accordance with section 776 of the Act, and the applied AFA rate is based solely on the Petition, there are no calculations to disclose.

International Trade Commission (ITC) Notification

In accordance with section 735(d) of the Act, Commerce will notify the ITC of its final affirmative determination of sales at LTFV. Because the final determination in this proceeding is affirmative, in accordance with section735(b)(2) of the Act, the ITC will make its final determination as to whether the domestic industry in the United States is materially injured, or threatened with material injury, by reason of imports or sales (or the likelihood of sales) of steel threaded rod from Taiwan no later than 45 days after our final determination. If the ITC determines that material injury or threat of material injury does not exist, the proceeding will be terminated, and all cash deposits will be refunded. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Administrative Protective Orders (APOs)

This notice serves as a reminder to parties subject to APO of their responsibility concerning the disposition of proprietary information disclosed under APO in accordance with 19 CFR 351.305(a)(3). Timely written notification of the return or destruction of APO materials, or conversion to judicial protective order, is hereby requested. Failure to comply with the regulations and the terms of an APO is a violation subject to sanction.

Notification to Interested Parties

This determination and this notice are issued and published pursuant to sections 735(d) and 777(i)(1) of the Act and 19 CFR 352.210(c).

Dated: December 3, 2019.
Jeffrey I. Kessler,
Assistant Secretary for Enforcement and Compliance.

Appendix I—Scope of the Investigation

The merchandise covered by the scope of the investigation is carbon and alloy steel threaded rod. Steel threaded rod is certain threaded rod, bar, or studs, of carbon or alloy steel, having a solid, circular cross section of any diameter, in any straight length. Steel threaded rod is normally drawn, cold-rolled, threaded, and straightened, or it may be hot-rolled. In addition, the steel threaded rod, bar, or studs subject to the investigation are non-headed and threaded along greater than 25 percent of their total actual length. A variety of finishes or coatings, such as plain oil finish as a temporary rust protectant, zinc coating (i.e., galvanized, whether by electroplating or hot-dipping), paint, and other similar finishes and coatings, may be applied to the merchandise.

Steel threaded rod is normally produced to American Society for Testing and Materials (ASTM) specifications ASTM A36, ASTM A193 B7/B7m, ASTM A193 B16, ASTM A307, ASTM A329 L7/L7M, ASTM A320 L43, ASTM A354 BC and BD, ASTM A449, ASTM F1554-36, ASTM F1554-55, ASTM F1554 Grade 105, American Society of Mechanical Engineers (ASME) specification ASME B18.31.3, and American Petroleum Institute (API) specification API 20E. All steel threaded rod meeting the physical description set forth above is covered by the scope of the investigation, whether or not produced according to a particular standard.

Subject merchandise includes material matching the above description that has been finished, assembled, or packaged in a third country, including by cutting, chamfering, coating, or painting the threaded rod, by attaching the threaded rod to, or packaging it with, another product, or any other finishing, assembly, or packaging operation that would not otherwise remove the merchandise from the scope of the investigation if performed in the country of manufacture of the threaded rod.

Carbon and alloy steel threaded rod are also included in the scope of the investigation whether or not imported attached to, or in conjunction with, other parts and accessories such as nuts and washers. If carbon and alloy steel threaded rod are imported attached to, or in conjunction with, such non-subject merchandise, only the threaded rod is included in the scope.

Excluded from the scope of the investigation are: (1) Threaded rod, bar, or studs which are threaded only on one or both ends and the threading covers 25 percent or less of the total actual length; and (2) stainless steel threaded rod, defined as steel threaded rod containing, by weight, 1.2 percent or less of carbon and 10.5 percent or more of chromium, with our without other elements.

Excluded from the scope of the antidumping investigation on steel threaded rod from the People's Republic of China is any merchandise covered by the existing antidumping order on Certain Steel Threaded Rod from the People's Republic of China. See Certain Steel Threaded Rod from the People's Republic of China: Notice of Antidumping Duty Order, 74 FR 17154 (April 14, 2009).

Specifically excluded from the scope of the investigation is threaded rod that is imported as part of a package of hardware in conjunction with a ready-to-assemble piece of furniture.

Steel threaded rod is currently classifiable under subheadings 7318.15.5051, 7318.15.5056, and 7318.15.5090 of the Harmonized Tariff Schedule of the United States (HTSUS). Subject merchandise may also enter under subheading 7318.15.2095 and 7318.19.0000 of the HTSUS. The HTSUS subheadings are provided for convenience and U.S. Customs purposes only. The written description of the scope is dispositive.

[FR Doc. 2019-26457 Filed 12-6-19; 8:45 am]

BILLING CODE 3510-DS-P